NUCLEAR REGULATORY COMMISSION

ABB C-E Nuclear Power, Inc.

[Docket No. 70-36]

Hematite Fuel Operations, Notice of Consideration of Approval of Transfer of Facility License and Conforming Amendment and Opportunity for a Hearing

The U.S. Nuclear Regulatory Commission (the Commission) is considering the issuance of an amendment pursuant to Part 70 to Title 10 of the Code of Federal Regulations approving the transfer of Material License SNM-33 held by ABB C-E Nuclear Power, Inc. (“ABBCENP”) as the owner and responsible licensee. The facility is authorized to use Special Nuclear Material (SNM) for research, development, and the fabrication of nuclear fuel pellets and fuel assemblies. The transfer would be to WAC LLC, an indirect, wholly owned subsidiary of British Nuclear Fuels (“BNFL”). The transfer is necessitated by the sale of the nuclear businesses of ABB Ltd. (“ABB”) to BNFL. Included in the sale is the transfer to BNFL of all outstanding shares of ABBCENP stock, the United States based nuclear business of ABB. The Commission is also considering amending the license for administrative purposes to reflect the proposed transfer. The facility is located in Festus, Missouri.

According to an application dated March 10, 2000, for approval filed by ABBCENP, a new company “NewCo” (with the formal name of NewCo to be provided later) would assume ownership of the facility. In a subsequent submittal dated March 16, 2000, the new company name was changed from NewCo to WAC LLC. In the March 10 application it stated that there will be no changes affecting the existing health and safety programs; qualifications of safety personnel; equipment and facilities; or any other existing license requirements.

The proposed amendment would replace references to ABBCENP in the license with references to WAC LLC and make other changes for administrative purposes to reflect the proposed transfer.

Pursuant to 10 CFR 70.36, no license granted under the regulations in Part 70 and no right to possess or utilize special nuclear material granted by any license issued pursuant to the regulations in Part 70 shall be transferred, assigned or in any manner disposed of, either voluntarily or involuntarily, directly or indirectly, through transfer of control of any license to any person unless the Commission shall give its prior consent in writing. The Commission will approve an application for the transfer of a license if the Commission determines that the proposed transferee is qualified to hold the license, and that the transfer is otherwise consistent with applicable provisions of law, regulations, and orders issued by the Commission pursuant thereto.

Before issuance of the proposed conforming license amendment, the Commission will have made the findings required by the Atomic Energy Act of 1954, as amended (the Act), and the Commission's regulations.

The filing of requests for hearing and petitions for leave to intervene, and written comments with regard to the license transfer application, are discussed below.

By April 24, 2000, any person whose interest may be affected by the Commission's action on the application may request a hearing and, if not, the applicant may petition for leave to intervene in a hearing proceeding on the Commission's action. Requests for a hearing and petitions for leave to intervene should be filed in accordance with the Commission's rules of practice set forth in Subpart M, “Public Notification, Availability of Documents and Records, Hearing Requests and Procedures for Hearings on License Transfer Applications,” of 10 CFR Part 2. In particular, such requests and petitions must comply with the requirements set forth in 10 CFR 2.1306, and should address the considerations contained in 10 CFR 2.1308(a). Untimely requests and petitions may be denied, as provided in 10 CFR 2.1308(b), unless good cause for failure to file on time is established. In addition, an untimely request or petition should address the factors that the Commission will also consider, in reviewing untimely requests or petitions, set forth in 10 CFR 2.1308(b)(1)-(2).

Requests for a hearing and petitions for leave to intervene should be served upon: Mr. Robert S. Bell, Jr., Esq., Vice President and General Counsel, ABB C-E Nuclear Power, Inc.; 2000 Day Hill Road, Mail Stop 9515-426; Windsor, CT 06095; the General Counsel, U.S. Nuclear Regulatory Commission, Washington, DC 20555 (e-mail address for filings regarding license transfer cases only: OGCLT@NRC.gov); and the Secretary of the Commission, U.S. Nuclear Regulatory Commission, Washington, DC 20555-0001, Attention: Rulemakings and Adjudications Staff, in accordance with 10 CFR 2.1313.

The Commission will issue a notice or order granting or denying a hearing request or intervention petition, designating the issues for any hearing that will be held and designating the Presiding Officer. A Notice granting a hearing will be published in the Federal Register and served on the parties to the hearing.

As an alternative to requests for hearing and petitions to intervene, by May 4, 2000, persons may submit written comments regarding the license transfer application, as provided for in 10 CFR 2.1305. The Commission will consider and, if appropriate, respond to these comments, but such comments will not otherwise constitute part of the decisional record. Comments should be submitted to the Secretary, U.S. Nuclear Regulatory Commission, Washington, DC 20555-0001, Attention: Rulemakings and Adjudications Staff, and should cite the publication date and page number of the Federal Register notice.

For further details with respect to this action, see the application dated March 10, 2000, available for public inspection at the Commission's Public Document Room, the Gelman Building, 2120 L Street, NW., Washington, DC, and accessible electronically through the ADAMS Public Electronic Reading Room link at the NRC Web site (http://www.nrc.gov).

Dated at Rockville, Maryland this 29th day of March 2000.
For the Nuclear Regulatory Commission.
Charles Emeigh,
Section Chief, Licensing Section, Licensing and International Safeguards Branch, Division of Fuel Cycle Safety and Safeguards, Office of Nuclear Material Safety and Safeguards.

[FR Doc. 00-8212 Filed 4-3-00; 8:45 am]

BILLING CODE 7590-01-P